DEPARTMENT OF HOUSING AND URBAN DEVELOPMENT

[Docket No. FR-4572-D-06]

Order of Succession

AGENCY: Office of the Assistant Secretary for Community Planning and Development, HUD.

ACTION: Notice of Order of Succession.

SUMMARY: In this notice, the Assistant Secretary for Community Planning and Development designates the Order of Succession for the office of Community Planning and Development. This Order of Succession supersedes the Order of Succession for the Assistant Secretary for Community Planning and Development, published at 58 FR 28597 (May 14, 1993).

EFFECTIVE DATE: July 24, 2000.

FOR FURTHER INFORMATION CONTACT: Linda S. Grant, Director, Management Division, Office of Technical Assistance and Management, Office of Community Planning and Development, Department of Housing and Urban Development, Room 7230, 451 7th Street, SW, Washington, DC 20410, (202) 708-2087. (This is not a toll-free number.) This number may be accessed via TTY by calling the Federal Information Relay Service at 1-800-877-8339 (toll-free).

SUPPLEMENTARY INFORMATION: The Assistant Secretary for Community Planning and Development is issuing this Order of Succession of officials authorized to perform the functions and duties of the Office of the Assistant Secretary for Community Planning and Development when, by reason of absence, disability, or vacancy in office, the Assistant Secretary is not available to exercise the powers or perform the duties of the office. This Order of Succession is subject to the provisions of the Vacancy Reform Act of 1998, 5 U.S.C. 3345-3349d. This publication supersedes the Order of Succession notice on May 14, 1993 at 58 FR 28597.

Accordingly, the Assistant Secretary for Community Planning and Development designates the following Order of Succession:

Section A. Order of Succession

Subject to the provisions of the Vacancy Reform Act of 1998, during any period when, by reason of absence, disability, or vacancy in office, the Assistant Secretary for Community Planning and Development is not available to exercise the powers or perform the duties of the Office of Assistant Secretary for Community Planning and Development, the following officials within the Office of Community Planning and Development are hereby designates to exercise the powers and perform the duties of the Office:

(1) General Deputy Assistant Secretary;

(2) Deputy Assistant Secretary for Special Needs Programs;

(3) Deputy Assistant Secretary for Economic Development;

(4) Deputy Assistant Secretary for Grants Program;

(5) Deputy Assistant Secretary for Community Empowerment.

These officials shall perform the functions and duties of the Office in the order specified herein, and no official shall serve unless all the other officials, whose position titles precede his/hers in this order, are unable to act by reason of absence, disability, or vacancy in office.

Section B. Authority Superseded

This Order of Succession supersedes the Order of Succession for the Assistant Secretary for Community Planning and Development, published at 58 FR 28597 (May 14, 1993).

Authority: Section 7(d), Department of Housing and Urban Development Act, 42 U.S.C. Sec. 3535(d).

Dated: July 24, 2000.
Cardell Cooper,
Assistant Secretary, Community Planning and Development.

[FR Doc. 00-21389 Filed 8-21-00; 8:45 am]

BILLING CODE 4210-29-M